DEPARTMENT OF TRANSPORTATION

Office of the Secretary

Notice of Applications for Certificates of Public Convenience and Necessity and Foreign Air Carrier Permits Filed Under Subpart B (Formerly Subpart Q) During the Week Ending June 1, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28387.

Date Filed: May 31, 2007.

Due Date for Answers, Conforming Applications, or Motion to Modify Scope:June 21, 2007

Description: Application of G5 Executive AG (“GS Executive”) requesting an exemption and an amended foreign air carrier permit authorizing G5 Executive to engage in charter foreign air transportation of persons, property and mail to the full extent permitted by the U.S.-Switzerland open skies agreement, using large aircraft.

Renee V. Wright,
Program Manager, Docket Operations, Federal Register Liaison.

[FR Doc. E7-11426 Filed 6-13-07; 8:45 am]

BILLING CODE 4910-9X-P